NUCLEAR REGULATORY COMMISSION

[Docket No. 70-36-MLA; ASLBP No. 10-894-01-MLA-BD01]

Westinghouse Electric Company, LLC; Establishment of Atomic Safety and Licensing Board

Pursuant to delegation by the Commission dated December 29, 1972, published in the Federal Register, 37 FR 28,710 (1972), and the Commission's regulations, see 10 CFR 2.104, 2.105, 2.300, 2.313, 2.318, and 2.321, notice is hereby given that an Atomic Safety and Licensing Board (Board) is being established to preside over the following proceeding:

Westinghouse Electric Company, LLC (Hematite Decommissioning Project)

This proceeding concerns a request for hearing from petitioner Citizens for a Clean Idaho, Inc. submitted in response to a July 6, 2009 Notice of License Amendment Request of Westinghouse Electric Company, LLC for Hematite Decommissioning Project, Festus, Missouri and Opportunity To Request a Hearing (74 FR 31,994; see also 74 FR 47, 287 (Sept. 15, 2009)). The license amendment request seeks authorization allowing Westinghouse Electric Company, LLC to transfer decommissioning waste from its former fuel cycle facility in Festus, Missouri to U.S. Ecology Idaho, Inc., a Resource Conservation and Recovery Act Subtitle C disposal facility located near Grand View, Idaho.

The Board is comprised of the following administrative judges:

Paul S. Ryerson, Chair, Atomic Safety and Licensing Board Panel, U.S. Nuclear Regulatory Commission, Washington, DC 20555-0001.

Michael F. Kennedy, Atomic Safety and Licensing Board Panel, U.S. Nuclear Regulatory Commission, Washington, DC 20555-0001.

Mark O. Barnett, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 9th day of October 2009.
E. Roy Hawkens,
Chief Administrative Judge, Atomic Safety and Licensing Board Panel.

[FR Doc. E9-25041 Filed 10-16-09; 8:45 am]

BILLING CODE 7590-01-P